DEPARTMENT OF TRANSPORTATION

Federal Motor Carrier Safety Administration

49 CFR Part 391

[Docket No. FMCSA-2022-0111]

Qualifications of Drivers: Medical Examiner's Handbook and Medical Advisory Criteria Proposed Regulatory Guidance

AGENCY: Federal Motor Carrier Safety Administration (FMCSA), Department of Transportation (DOT).

ACTION: Notice of proposed regulatory guidance; extension of comment period.

SUMMARY: FMCSA extends the comment period for its August 16, 2022, notice of proposed regulatory guidance relating to the draft Medical Examiner's Handbook (MEH), which includes updates to the Medical Advisory Criteria published in the United States Code of Federal Regulations. FMCSA received requests for an extension to the comment period from the Owner-Operator Independent Drivers Association and two individuals. The Agency finds it is appropriate to extend the comment period to provide interested parties additional time to submit their responses to the notice. Therefore, the Agency extends the deadline for the submission of comments to October 31, 2022.

DATES: The comment period for the notice published August 16, 2022, at 87 FR 50282, is extended to October 31, 2022.

ADDRESSES: You may submit comments identified by the Federal Docket Management System Docket No. FMCSA-2022-0111 using any of the following methods:

• Federal eRulemaking Portal: Go to www.regulations.gov/, insert the docket number, FMCSA-2022-0035, in the keyword box, and click “Search.” Next, sort the results by “Posted (Newer-Older),” choose the first notice listed, and click on the “Comment” button. Follow the online instructions for submitting comments.

• Mail: Dockets Operations: U.S. Department of Transportation, 1200 New Jersey Avenue SE, West Building Ground Floor, Room W12-140, Washington, DC 20590-0001.

• Hand Delivery: West Building Ground Floor, Room W12-140, 1200 New Jersey Avenue SE, Washington, DC 20590-0001, between 9 a.m. and 5 p.m., ET, Monday through Friday, except Federal Holidays.

• Fax: (202) 493-2251.

To avoid duplication, please use only one of these four methods. See the “Public Participation” portion of the SUPPLEMENTARY INFORMATION section for instructions on submitting comments.

FOR FURTHER INFORMATION CONTACT: Ms. Christine A. Hydock, Chief, Medical Programs Division, FMCSA, 1200 New Jersey Avenue SE, Washington, DC 20590, (202) 366-4001, FMCSAMedical@dot.gov. If you have questions on viewing or submitting material to the docket, call Dockets Operations at (202) 366-9826.

SUPPLEMENTARY INFORMATION:

I. Public Participation and Request for Comments

A. Submitting Comments

If you submit a comment, please include the docket number for this notice (FMCSA-2022-0111), indicate the specific page and section of the MEH to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2022-0111/document, click on this request for comments, click “Comment,” and type your comment into the text box on the following screen.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

B. Viewing Comments and Documents

To view any documents mentioned as being available in the docket, go to https://www.regulations.gov/docket/FMCSA-2022-0111/document and choose the document to review. To view comments, click this request for comments, and click “Browse Comments.” If you do not have access to the internet, you may view the docket online by visiting Dockets Operations in Room W12-140 on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy Act

DOT solicits comments from the public to better inform its guidance process. DOT posts these comments, without edit, including any personal information the commenter provides, to www.regulations.gov. As described in the system of records notice (DOT/ALL-14 FDMS), which can be reviewed at www.dot.gov/privacy, the comments are searchable by the name of the submitter.

II. Background

The Federal Register notice published on August 16, 2022 (87 FR 50282) requested comments on FMCSA's proposed MEH. The MEH includes updates to the published Medical Advisory Criteria and proposed regulatory guidance. The Federal Register notice provided a 45-day comment period, which ends September 30, 2022.

FMCSA received a request from the Owner-Operator Independent Drivers Association to extend the comment period for an additional 60 days. A former truck driver (Bob Stanton) requested 180 days from publication of the notice to submit comments. Another individual (Daniel Spaulding) suggested that a longer period was necessary to understand the draft MEH. In summary they both stated that the draft MEH is 122 pages long with highly detailed and technical information, and that additional time is needed to thoroughly review the updated MEH and to develop meaningful feedback. Copies of the requests are available in the docket for this notice.

In consideration of these requests and to allow additional time to review and submit comments, FMCSA extends the deadline for submitting comments in response to the August 16, 2022 (87 FR 50282) Federal Register publication until October 31, 2022.

John Van Steenburg,
Executive Director and Chief Safety Officer.

[FR Doc. 2022-19847 Filed 9-13-22; 8:45 am]

BILLING CODE 4910-EX-P